DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2009 Survey of Revenues and Expenditures (SRE)—NEW

The Substance Abuse and Mental Health Services Administration's (SAMHSA) Center for Mental Health Services (CMHS) will conduct a 2009 SRE. This national survey represents a survey of mental health and substance abuse treatment facilities. These separate service locations are called facilities, in contrast to mental health and substance abuse organizations, which may include multiple facilities (service locations). This survey will be a sample survey of all known mental health and substance abuse treatment facilities nationwide with a particular focus on revenues and expenditures. The survey will begin with a stratified random sample of 1,500 facilities drawn from other SAMHSA databases. In addition, a control subsample of 100 facilities drawn from the original 1,500 will be drawn and pursued beyond the planned three follow-up attempts with the entire sample. The control sample will provide estimates of non-response bias upon the results of the data analyses.

The 2009 SRE will utilize one questionnaire for all mental health and substance abuse treatment facility types including hospitals, residential treatment centers and outpatient clinics. The information collected will include annual revenue and expenditures, staffing, and active caseload size. All treatment facilities will have the option of completing the survey instrument online via the Internet, by telephone with an interviewer, or using a paper version of the questionnaire.

The resulting database will be used for national estimates of facility types, their revenues and expenditures, and their patient caseloads. These findings will be used to update SAMHSA's national spending on mental health and substance abuse treatment estimates. The survey results will be published by CMHS in Data Highlights, in Mental Health, United States, and in professional journals such as Psychiatric Services and the American Journal of Psychiatry. The publication Mental Health, United States is used by the general public, State governments, the U.S. Congress, university researchers, and other health care professionals. The following Table summarizes the estimated response burden for the survey.

| Number of respondents | Responses per respondent | Average hours per response | Total hour burden
Treatment facilities | 1,500 | 1 | 2.5 | 3,750

Send comments to Summer King, SAMHSA Reports Clearance Officer, Room 7-1044, One Choke Cherry Road, Rockville, MD 20857. Written comments should be received within 60 days of this notice.

Dated: July 2, 2009.
Elaine Parry,
Director, Office of Program Services.

[FR Doc. E9-16459 Filed 7-10-09; 8:45 am]

BILLING CODE 4162-20-P